FEDERAL COMMUNICATIONS COMMISSION

[PSHSB DA 14-1497]

The Public Safety and Homeland Security Bureau Seeks Comment on the Dismissal of Certain Proceedings as Dormant

AGENCY: Federal Communications Commission.

ACTION: Notice.

SUMMARY: In this document, the Public Safety and Homeland Security Bureau (PSHSB) seeks comment on whether certain long-pending petitions and requests identified in the Public Notice should be dismissed as dormant. PSHSB seeks to determine whether the long-term pending filings listed in the Attachment are candidates for dismissal because the items either have been abandoned, are no longer of interest to the filing party, or for which no further action is required or contemplated.

DATES: Comments are due thirty days after publication of this notice in the Federal Register. Reply comments are due forty-five days after publication of this notice in the Federal Register.

ADDRESSES: Interested parties may file comments and reply comments on or before the dates indicated on the first page of this document. Comments may be filed using: (1) The Commission's Electronic Comment Filing System (ECFS); or (2) by filing paper copies. All filings should reference the docket number of this proceeding, PS Docket No. 14-1497.

FOR FURTHER INFORMATION CONTACT: David Ward of the Public Safety and Homeland Security Bureau, at (202) 418-2336, david.ward@fcc.gov.

Federal Communications Commission.
David Simpson,
Chief, Public Safety and Homeland Security Bureau.

[FR Doc. 2014-29666 Filed 12-17-14; 8:45 am]

BILLING CODE 6712-01-P